SMALL BUSINESS ADMINISTRATION

[Declaration of Disaster #3350]

State of Pennsylvania

As a result of the President's major disaster declaration on June 21, 2001, I find that Bucks and Montgomery Counties in the State of Pennsylvania constitute a disaster area due to damages caused by Tropical Storm Allison occurring on June 15 through 17, 2001. Applications for loans for physical damage as a result of this disaster may be filed until the close of business on August 20, 2001 and for economic injury until the close of business on March 20, 2002 at the address listed below or other locally announced locations: U.S. Small Business Administration, Disaster Area 1 Office, 360 Rainbow Blvd., South 3rd Fl., Niagara Falls, NY 14303-1192.

In addition, applications for economic injury loans from small businesses located in the following contiguous counties in Pennsylvania may be filed until the specified date at the above location: Berks, Chester, Delaware, Lehigh, Northampton, and Philadelphia; and Burlington, Hunterdon, Mercer, and Warren counties in the State of New Jersey.

The interest rates are:

| Percent
For Physical Damage:
Homeowners With Credit Available Elsewhere | 6.625
Homeowners Without Credit Available Elsewhere | 3.312
Businesses With Credit Available Elsewhere | 8.000
Businesses and Non-Profit Organizations Without Credit Available Elsewhere | 4.000
Others (Including Non-Profit Organizations) With Credit Available Elsewhere | 7.125
For Economic Injury:
Businesses and Small Agricultural Cooperatives Without Credit Available Elsewhere | 4.000

The number assigned to this disaster for physical damage is 335008. For economic injury the number is 9L9700 for Pennsylvania, and 9L9800 for New Jersey.

(Catalog of Federal Domestic Assistance Program Nos. 59002 and 59008)
Dated: June 22, 2001.
Herbert L. Mitchell,
Associate Administrator for Disaster Assistance.

[FR Doc. 01-16431 Filed 6-28-01; 8:45 am]

BILLING CODE 8025-01-P